DEPARTMENT OF ENERGY

Federal Energy Regulatory Commission

[Project No. 1971-133]

Idaho Power Company; Notice of Effectiveness of Withdrawal of Revised Exhibit K and Project Description

On September 15, 2021, Idaho Power Company (IPC) filed a revised Exhibit K and project description for the Hells Canyon Hydroelectric Project No. 1971. On September 23, 2021, IPC filed a notice of withdrawal of its revised Exhibit K and project description.

No motion in opposition to the notice of withdrawal has been filed, and the Commission has taken no action to disallow the withdrawal. Pursuant to Rule 216(b) of the Commission's Rules of Practice and Procedure,¹ the withdrawal of the revised Exhibit K and project description became effective on October 12, 2021, and this proceeding is hereby terminated.

¹ 18 CFR 385.216(b) (2020).

Dated: October 12, 2021.
Kimberly D. Bose,
Secretary.

[FR Doc. 2021-22610 Filed 10-15-21; 8:45 am]

BILLING CODE 6717-01-P